DEPARTMENT OF JUSTICE

Notice of Lodging of Consent Decree Under the Clean Air Act

Under 28 CFR 50.7, notice is hereby given that on May 5, 2006, a proposed Consent Decree in United States of America v. Weyerhaeuser Company, Civil Action No. 4:06-cv-61, was lodged with the United States District Court for the Western District of Kentucky.

The United States alleges that Weyerhaeuser (1) violated the particulate matter (PM) emission limit in the applicable air permit at a boiler and the wood dryer system at its Hawesville, Kentucky pulp and paper mill (“the Hawesville Mill”) and (2) violated the Recycling and Emissions Reduction regulations, 40 CFR Part 82, Subpart F (§§ 82.150 to 82.166), at its Hawseville Mill, its pulp and paper mill in Bennettsville, South Carolina, and its pulp and paper mill in Kingsport, Tennessee. The United States sought injunctive relief and civil penalties to address the clean Air Act violations.

Under the Consent Decree, Weyerhaeuser will pay a civil penalty of $142,000 and be prohibited from the use of any fuel other than natural gas in Hog Fuel Boiler No. 2 at the Hawesville Mill. This prohibition will remain in effect until Kentucky issues a new permit which prohibits the use of any fuel other than natural gas.

The United States Department of Justice will receive for a period of thirty (30) days from the date of this publication comments relating to the Consent Decree. Comments should be addressed to the Assistant Attorney General, Environment and Natural Resources Division, P.O. Box 7611, U.S. Department of Justice, Washington, DC 20044-7611, and should refer to United States of America v. Weyerhaeuser Company, D.J. Ref. No. 90-5ndash;2-1-2186/3.

During the public comment period, the Consent Decree may be examined on the following Department of Justice Web site: http://www.usdoj.gov/enrd./open.html. A copy of the Consent Decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. If requesting from the consent Decree Library a copy of the Consent Decree, please enclose a check in the amount of $7.50 (25 cents per page reproduction cost) payable to the U.S. Treasury.

Thomas A. Mariani, Jr.,
Assistant Section Chief, Environmental Enforcement Section, Environment and Natural Resources Division.

[FR Doc. 06-4833 Filed 5-24-06; 8:45 am]

BILLING CODE 4410-15-M